DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy.

The following are available for licensing: Navy Case No. 100033: Nonlinear Channelizer Device with Wideband, High Frequency Operation and Channel Reconfigurability; Navy Case No. 100992: Time domain tunneling switched multi-axial gyroscope with independent acceleration measurement; Navy Case No. 100993: In-plane, six degree of freedom inertial device with integrated clock; Navy Case No. 101027: Magnetic Wheel; Navy Case No. 101298: Auto ranging for time domain inertial sensor; Navy Case No. 101330: Tuning fork gyroscope time domain inertial sensor; U.S. Patent Application No. 12/175262: Coupled Electric Field Sensors for DC Target Electric Field Detection; U.S. Patent Application No. 12/732023: Coupled Bi-Stable Microcircuit System for Ultra-Sensitive Electrical and Magnetic Field Sensing; U.S. Patent Application No. 12/749338: Coupled Bi-Stable Circuit for Ultra-Sensitive Electric Field Sensing Utilizing Differential Transistors Pairs.

FOR FURTHER INFORMATION CONTACT: Brian Suh, Office of Research and Technology Applications, Space and Naval Warfare Systems Center Pacific, Code 72120, 53560 Hull St, Bldg A33 Room 2305, San Diego, CA 92152-5001, telephone 619-553-5118, E-Mail: brian.suh@navy.mil.

Authority: 35 U.S.C. 207, 37 CFR part 404.

Dated: September 6, 2011.
L.M. Senay,
Lieutenant, Judge Advocate General's Corps, U.S. Navy, Alternate Federal Register Liaison Officer.

[FR Doc. 2011-23469 Filed 9-13-11; 8:45 am]

BILLING CODE 3810-FF-P